ENVIRONMENTAL PROTECTION AGENCY

[FRL-9466-2]

Notice of the Availability of the Draft Framework for the U.S.-Mexico Environmental Program: Border 2020

AGENCY: Environmental Protection Agency (EPA).

ACTION: Notice.

SUMMARY: The U.S. Environmental Protection Agency (EPA) and the Secretaria de Medio Ambiente y Recursos Naturales (Mexico's Secretariat of Environment and Natural Resources, SEMARNAT) is announcing the availability of the draft document, “Border 2020: U.S.-Mexico Environmental Program”. Border 2020 is an eight-year, bi-national, results-oriented, environmental program for the U.S.-Mexico border region, which has been developed by the EPA and SEMARNAT, the 26 U.S. border Tribes, the indigenous communities of Mexico and the environmental agencies from each of the ten U.S.-Mexico border states.

The proposed Border 2020 Program is the latest multi-year, bi-national planning effort to be implemented under the La Paz Agreement and succeeds Border 2012, a ten-year program that will end in 2012. The mission of Border 2020 is “to protect public health and the environment in the U.S.-Mexico border region, consistent with the principles of sustainable development”. EPA is requesting comments from interested parties and border stakeholders on the draft Border 2020 Framework.

DATES: Written comments must be submitted no later than November 30, 2011.

ADDRESSES: Written comments can be submitted by mail or fax to EPA Office of International and Tribal Affairs (OITA) or either of EPA's Border Offices (see section VI-C). Comments can also be submitted on EPA's U.S.-Mexico Border Web site at: http://www.epa.gov/border2012. In addition, EPA will be accepting comments at public meetings to be held throughout the border region during September and October 2011. The draft framework, “Border 2020: U.S.-Mexico Environmental Program”, is posted in English and Spanish on EPA's Border Web page at: http://www.epa.gov/border2012. In addition, English/Spanish copies of the draft document can be requested by contacting the EPA Office of International and Tribal Affairs, 1200 Pennsylvania Ave., NW., Washington, DC 20460. Telephone: 202-564-5736.

FOR FURTHER INFORMATION CONTACT: Laura E. Gomez Rodriguez at 202-564-5736.

SUPPLEMENTARY INFORMATION:

I. Background

For decades, the U.S. and Mexico have collaborated on efforts to protect the environment and health of border communities. One of the first bi-national efforts was the Border XXI Program, which was initiated in 1996 with a five-year plan for addressing the most challenging environmental and environmentally-related health problems in the region. The formal foundation for these bi-national efforts is the La Paz Agreement (http://www.epa.gov/usmexicoborder/2002/efpaz.htm) signed by Presidents De la Madrid and Reagan in 1983. The agreement is implemented through multi-year bi-national programs such as Border XXI, Border 2012 and now the new Border 2020 program. Although most of the Border XXI projects were implemented at the local level, its organizational structure emphasized border-wide coordination and planning. Nine border-wide workgroups—each focused on a particular environmental program, such as air quality or hazardous waste management—coordinated the efforts of various Federal, state, Tribal and local governmental activities in the border area. The existing Border 2012 Program builds upon the successes achieved under Border XXI while also establishing a regionally-focused border plan to facilitate environmental priority setting and planning at the regional and local levels.

Border 2012 is a 10-year, bi-national, results-oriented, environmental program for the U.S.-Mexico border region, which was developed by the EPA, the U.S. Department of Health and Human Services, Secretaría de Medio Ambiente y Recursos Naturales (Mexico's Secretariat of Environment and Natural Resources), Secretaría de Salud (Mexico's Secretariat of Health), the 26 U.S. border Tribes, and the environmental agencies from each of the ten U.S.-Mexico border states. The Border 2012 Program is a multi-year, bi-national planning effort to be implemented under the La Paz Agreement and succeeds Border XXI, a five-year program that ended in 2000. The mission of Border 2012 is “to protect public health and the environment in the U.S.-Mexico border region, consistent with the principles of sustainable development”. Border 2020 will continue to operate under the existing Border 2012 bottom-up approach, which incorporates local decision making within priority setting and project implementation process. Border 2020 will also continue to emphasize concrete measurable results, public participation, transparency and access to environmental information.

New features of the Border 2020 Program are the following: (1) Integration of fundamental principles to be used as we approach and consider complex and critical challenges faced by border communities along the U.S.-Mexico Border ; (2) a focus on improving environmental health through chemical safety; and (3) the use of Action plans that will establish priority and near-term targets that pay attention to the particular needs of a community or geographic area and adapt to unanticipated resource constraints.

II. Coordinating Bodies

Border 2020 will continue to be organized around coordinating bodies. These coordinating bodies include the following: The National Coordinators, six Policy For a, and four Regional (geographically-focused) Workgroups.

A. National Coordinators

Consistent with the requirements of the La Paz Agreement, the National Coordinators will monitor and manage implementation of the Border 2020 Program and ensure cooperation and communication among all coordinating bodies.

B. Policy Fora

Policy Fora concentrate on issues that are border-wide and multi-regional (identified as a priority by two or more regional workgroups), primarily Federal in nature (requiring direct, high-level, and sustained leadership by Federal program partners in the United States and Mexico) and that might require broad policy considerations. Each of the six Policy Fora will have a Federal co-chair from the United States and Mexico, respectively.

C. Regional Workgroups

Regional Workgroups are multi-media and geographically-focused, and emphasize regional public health and environmental issues. They coordinate activities at the regional level and support the efforts of local Task Forces. Each Regional Workgroup will have one state and one Federal co-chair from each country. Four bi-national workgroups have been established in the following regions:

California-Baja California;

Arizona-Sonora;

New Mexico-Texas-Chihuahua;

Texas-Coahuila-Nuevo León-Tamaulipas.

The Policy Fora and the Regional Workgroups will be broad-based and will include representation from local communities from both sides of the border, including non-governmental or community-based organizations; academic institutions; local, state, and Tribal representatives; and bi-national organizations (such as the Border Environmental Cooperation Commission or the North American Development Bank) with expertise in the given workgroup's subject area.

Except for the National Coordinators, the coordinating bodies may create Task Forces to address specific community-identified concerns and implement site-specific projects. Task Forces will be led by a “team leader” from each country and may be from any sector of government (including Tribal governments), the private sector, academia, or from non-governmental organizations.

III. Goals and Objectives

Border 2020 establishes the following six environmental goals for the U.S.-Mexico border region:

Goal #1: Reduce Conventional Air Pollutant and GHG Emissions.

Goal #2: Improve Water Quality and Water Infrastructure Sustainability and Reduce Exposure to Contaminated Water.

Goal #3: Materials Management and Clean Sites.

Goal #4: Improve Environmental and Public Health through Chemical Safety.

Goal #5: Enhance Joint Preparedness for Environmental Response.

Goal #6: Improve Environmental Management through Compliance and Enforcement, Pollution Prevention, and Promotion of Responsible Environmental Management.

IV. Reporting Results

The coordinating bodies will prepare Highlight reports that describe the accomplishments and successes under the Border 2020 program every three years (2015, 2018). In addition, a comprehensive mid-term (2016) and final progress report (2020) that describe progress on meeting the goals and objectives of the program, including environmental indicators will be made available accordingly. Indicator reports which will measure progress being made toward Border 2020 goals and objectives will be developed during the third and seventh year of the program.

V. Fundamental Principles

As a companion to the six strategic goals (and associated objectives), which outline the anticipated results we hope to achieve in the next eight years, the following five Fundamental Principles provide the expectation for how we will approach and consider complex and critical challenges faced by border communities along the U.S.-Mexico Border. The fundamental principles will complement and inform the work that we do to achieve the mission and goals of the Border 2020 program. They are identified as follows:

Climate Change;

Disadvantaged and Underserved Communities;

Children's Health;

Environmental Education;

Strengthening State, Tribal and International Partnerships.

VI. Public Input and Participation During the Comment Period

EPA and SEMARNAT are seeking input from border stakeholders and other interested parties about the proposed Border 2020 program. We invite public comments related to all aspects of the proposed Border 2020 plan, and, in particular, we are interested in comments related to: How well will the six long-term strategic goals address the serious environmental and environmentally-related public health challenges in the border region. The draft Border 2020 framework document is available online for viewing at http://www.epa.gov/border 2012. A number of opportunities for the public to comment on the draft document are provided as follows:

A. EPA U.S.-Mexico Border Web Site

Individuals can submit comments directly by filling out the public comment form at: http://www.epa.gov/border2012 .

B. Public Meetings

A number of public meetings will be held in September and October 2011. For meeting locations and times, please check the EPA U.S.-Mexico Border Web site or contact the EPA Office of International and Tribal Affairs. Public comment will be accepted at these meetings.

C. Interested parties can also mail or fax comments to the EPA OITA, Region 9 or Region 6 Border Offices or SEMARNAT at the addresses and/or fax numbers listed below.

U.S. Environmental Protection Agency, Office of International and Tribal Affairs (MC-2650R), Laura E. Gomez Rodriguez, 1200 Pennsylvania Ave., NW., Washington, DC 20460. Fax: (202) 565-2411.

Region 9—San Diego. Tomas Torres, EPA San Diego Border Office, 610 West Ash St., Suite 905, San Diego, CA 92101. Fax: (619) 235-4771.

Region 6—El Paso. Carlos Rincon, EPA El Paso Border Office, 4050 Rio Bravo, Ste. 100, El Paso, TX 79902. Fax: (915) 544-6026.

Secretaria del Medio Ambiente y Recursos Naturales (SEMARNAT), Boulevard Adolfo Ruiz Cortínez No. 4209 1er. piso Ala A, Fracc. Jardines en la Montaña, Delegación Tlalpan, México D.F., C.P. 14210.

D. Interested parties can also e-mail comments to EPA at Border2020.comments@epa.gov or SEMARNAT at frontera2012@semarnat.gob.mx.

VII. EPA's Relationship With U.S. Border Tribes in Border 2020

EPA will continue to honor its unique trust relationship with U.S. Indian Tribes and enforce its “Policy for the Administration of Environmental Program on Indian Reservations” within the Border 2020 U.S.-Mexico program. EPA recognizes that U.S. Tribal governments are sovereign and are the primary parties for setting standards, making environmental policy decisions, and managing environmental programs on Indian reservations.

Within the Border 2020 Program, EPA will comply with Executive Order 13175 or 13563, Consultation and Coordination with Indian Tribal Governments” and work with Tribes when formulating and implementing policies or taking other actions that have a substantial direct effect on any Indian Tribe.

Dated: September 12, 2011.
Jane Nishida,
Director Office of Regional and Bilateral Affairs, Office of International and Tribal Affairs.

[FR Doc. 2011-23981 Filed 9-16-11; 8:45 am]

BILLING CODE 6560-50-P